DEPARTMENT OF ENERGY

10 CFR Part 430

[EERE-2018-BT-STD-0010]

RIN 1904-AE26

Energy Conservation Program: Energy Conservation Standards for General Service Lamps

AGENCY: Office of Energy Efficiency and Renewable Energy, Department of Energy.

ACTION: Extension of public comment period.

SUMMARY: The U.S. Department of Energy (DOE) is extending the public comment period for its notice of proposed rulemaking (NOPR) to withdraw the revised definitions of General Service Lamp (GSL), General Service Incandescent Lamp (GSIL) and related terms established in two definition final rules issued on January 19, 2017. DOE published the NOPR in the Federal Register on February 11, 2019 establishing a 60-day public comment period ending April 12, 2019. DOE is extending the public comment period for submitting comments and data on the NOPR by 21 days to May 3, 2019.

DATES: The comment period for the proposed rule published on February 11, 2019 (84 FR 3120), is extended. DOE will accept comments, data, and information regarding this rulemaking received no later than May 3, 2019.

ADDRESSES: Interested persons are encouraged to submit comments, identified by “1904-AE26,” by any of the following methods:

Federal eRulemaking Portal: http://www.regulations.gov. Follow the instructions for submitting comments.

Email: GSL2018STD0010@ee.doe.gov. Include the docket number and/or RIN in the subject line of the message. Submit electronic comments in WordPerfect, Microsoft Word, PDF, or ASCII file format, and avoid the use of special characters or any form of encryption.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: For access to the docket to read background documents, or comments received, go to the Federal eRulemaking Portal at http://www.regulations.gov/docket?D=EERE-2018-BT-STD-0010.

The docket, which includes Federal Register notices, public meeting attendee lists and transcripts, comments, and other supporting documents/materials, is available for review at http://www.regulations.gov. All documents in the docket are listed in the http://www.regulations.gov index. However, some documents listed in the index may not be publicly available, such as those containing information that is exempt from public disclosure.

The docket web page can be found at: http://www.regulations.gov/docket?D=EERE-2018-BT-STD-0010. The docket web page contains instructions on how to access all documents, including public comments, in the docket.

FOR FURTHER INFORMATION CONTACT: Ms. Celia Sher, U.S. Department of Energy, Office of the General Counsel, GC-33, 1000 Independence Avenue SW, Washington, DC 20585-0121. Telephone: (202) 287-6122. Email: celia.sher@hq.doe.gov.

SUPPLEMENTARY INFORMATION: On February 11, 2019, DOE published a notice in the Federal Register soliciting public comment on its NOPR to withdraw the definitions of GSL, GSIL, and other supplemental definitions established in the final rules published on January 19, 2017. 84 FR 3120. The NOPR provided for the written submission of comments by April 12, 2019. A public meeting for the NOPR was held on February 28, 2019. At the meeting, DOE noted that it would post to the docket additional supporting background data for the lamp data analysis presented.¹ In light of the additional information to be supplied by DOE, the Appliance Standards Awareness Project requested an extension of the public comment period. DOE has reviewed the request and considered the benefit to stakeholders in providing additional time to review the supporting data and provide comments to DOE on its proposed rulemaking. Accordingly, DOE has determined that an extension of the comment period is appropriate, and is hereby extending the comment period by 21 days, until May 3, 2019.

¹ DOE posted this supporting data to the docket at https://www.regulations.gov/document?D=EERE-2018-BT-STD-0010-0049.

Signed in Washington, DC, on March 26, 2019.
Daniel R. Simmons,
Assistant Secretary, Energy Efficiency and Renewable Energy.

[FR Doc. 2019-06265 Filed 3-29-19; 8:45 am]

BILLING CODE 6450-01-P